DEPARTMENT OF ENERGY

Federal Energy Regulatory Commission

[Project No. 2213-011]

Public Utility District No. 1 of Cowlitz County; Notice of Application and Applicant Prepared Environmental Assessment Tendered for Filing With the Commission, Establishing Procedural Schedule for Relicensing and Deadline for Submission of Final Amendments

May 7, 2004.

Take notice that the following hydroelectric application has been filed with the Commission and is available for public inspection.

a. Type of Application: New Major License.

b. Project No.: 2213-011.

c. Date Filed: April 23, 2004.

d. Applicant: Public Utility District No. 1 of Cowlitz County (Cowlitz PUD).

e. Name of Project: Swift No. 2 Hydroelectric Project.

f. Location: On the North Fork Lewis River, in Cowlitz and Skamania Counties, Washington. The project occupies 3.79 acres of federal land administered by the U.S. Forest Service.

g. Filed Pursuant to: Federal Power Act 16 U.S.C. 791(a)-825(r).

h. Applicant Contact: Diana McDonald, Public Utility District No. 1 of Cowlitz County P.O. Box 3007, 961 12th Avenue Longview, Washington 98632; Telephone (360) 577-5785; e-mail dmcdonald@cowlitzpud.org.

i. FERC Contact: Jon Cofrancesco at (202) 502-8951; or e-mail at jon.cofrancesco@ferc.gov

j. Deadline for filing comments on the application: 60 days from the filing date shown in paragraph (c), or June 22, 2004.

All documents (original and eight copies) should be filed with: Magalie R. Salas, Secretary, Federal Energy Regulatory Commission, 888 First Street, NE, Washington, DC 20426. Comments may be filed electronically via the Internet in lieu of paper; see 18 CFR 385.2001(a)(1)(iii) and the instructions on the Commission's Web site (http://www.ferc.gov) under the “e-Filing” link. After logging into the e-Filing system, select “Comment on Filing” from the Filing Type Selection screen and continue with the filing process. The Commission strongly encourages electronic filing.

The Commission's Rules of Practice require all interveners filing documents with the Commission to serve a copy of that document on each person on the official service list for the project. Further, if an intervener files comments or documents with the Commission relating to the merits of an issue that may affect the responsibilities of a particular resource agency, they must also serve a copy of the document on that resource agency.

k. Cooperating Agencies: We are asking federal, state, local, and tribal agencies with jurisdiction and/or special expertise with respect to environmental issues to cooperate with us in the preparation of the environmental document. Agencies who would like to request cooperating status should follow the instructions for filing comments described in item j above. Agencies granted cooperating status will be precluded from being an intervenor in this proceeding consistent with the Commission's regulations.

l. With this notice, we are initiating consultation with the Washington State Historic Preservation Officer (SHPO), as required by 106, National Historic Preservation Act, and the regulations of the Advisory Council on Historic Preservation, 36 CFR 800.4.

m. Status: This application has not been accepted for filing. We are not soliciting motions to intervene, protests, or final terms and conditions at this time.

n. The Project Description: The existing project consists of: (1) A 3.2-mile-long power canal consisting of both concrete and earth embankment sections and having a surface area of 53 acres; (2) a 1,100 foot-long concrete lined forebay; (3) an 82-foot-long check structure,: (4) a 537 foot-long side channel spillway/wasteway, (5) a 90 foot-high intake structure with two vertical gates: (6) two 250-foot-long steel lined penstocks, (7) a powerhouse, containing two 35-megawatt (MW) generating units, having a total installed capacity of 70 MW; (8) a 0.9-mile-long 230 kilovolt transmission line; and (9) appurtenant facilities.

Historically, Cowlitz PUD has operated the Swift No. 2 Project as a peaking facility in a coordinated manner with the upstream Swift No. 1 Hydroelectric Project. In 2002, a portion of the project canal failed resulting in damage to the powerhouse, tailrace, and switchyard and the project has not operated since that time. Reconstruction of the damaged project facilities is scheduled to be completed in late 2005. Cowlitz PUD proposes to operate the project in the same manner as it did historically and to implement various environmental measures at the project.

o. Locations of the Application: A copy of the application is available for review at the Commission in the Public Reference Room or may be viewed on the Commission's website at http://www.ferc.gov using the “eLibrary” link. Enter the docket number, excluding the last three digits in the docket number field (P-2213), to access the document. For assistance, contact FERC Online Support at FERCOnlineSupport@ferc.gov or toll-free at 1-866-208-3676, or for TTY, (202) 502-8659. A copy is also available for inspection and reproduction at the address in item (h) above.

You may also register online at http://www.ferc.gov/esubscribenow.htm to be notified via email of new filings and issuances related to this or other pending projects. For assistance, contact FERC Online Support.

p. Procedural schedule and final amendments: The application will be processed according to the following Hydro Licensing Schedule. Revisions to the schedule may be made as appropriate.

Milestone | Target date
Issue acceptance or deficiency letter | July 2004.
Request additional information (if necessary) | July 2004.
Notice soliciting final terms and conditions | July 2004.
Notice of Draft NEPA Document | October 2004.
Notice of Final NEPA Document | February 2005.
Ready for Commission Decision on the Application | October 2005.

Final amendments to the application must be filed with the Commission no later than 30 days from the issuance date of the notice soliciting final terms and conditions.

Magalie R. Salas,
Secretary.

[FR Doc. E4-1141 Filed 5-12-04; 8:45 am]

BILLING CODE 6717-01-P